DEPARTMENT OF THE INTERIOR

National Park Service

[NPS-WASO-NAGPRA-17722; PPWOCRADN0-PCU00RP14.R50000]

Notice of Inventory Completion: Columbia University, Department of Anthropology, New York, NY

AGENCY: National Park Service, Interior.

ACTION: Notice.

SUMMARY: The Columbia University, Department of Anthropology, has completed an inventory of human remains, in consultation with the appropriate Indian tribes or Native Hawaiian organizations, and has determined that there is no cultural affiliation between the human remains and present-day Indian tribes or Native Hawaiian organizations. Representatives of any Indian tribe or Native Hawaiian organization not identified in this notice that wish to request transfer of control of these human remains should submit a written request to Columbia University. If no additional requestors come forward, transfer of control of the human remains to the Indian tribes or Native Hawaiian organizations stated in this notice may proceed.

DATES: Representatives of any Indian tribe or Native Hawaiian organization not identified in this notice that wish to request transfer of control of these human remains should submit a written request with information in support of the request to Columbia University at the address in this notice by April 15, 2015.

ADDRESSES: Dr. Nan Rothschild, Department of Anthropology, Columbia University, 1200 Amsterdam Ave., New York, NY 10027, telephone (212) 854-4977, email roth@columbia.edu.

SUPPLEMENTARY INFORMATION: Notice is here given in accordance with the Native American Graves Protection and Repatriation Act (NAGPRA), 25 U.S.C. 3003, of the completion of an inventory of human remains under the control of Columbia University. The human remains were removed from Okiedan Butte, Ransom County, ND.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Columbia University, Department of Anthropology, professional staff in consultation with representatives of the Assiniboine and Sioux Tribes of the Fort Peck Indian Reservation, Montana; Cheyenne and Arapaho Tribes, Oklahoma (previously listed as the Cheyenne-Arapaho Tribes of Oklahoma); Cheyenne River Sioux Tribe of the Cheyenne River Sioux Reservation, South Dakota; Crow Creek Sioux Tribe of the Crow Creek Reservation, South Dakota; Flandreau Santee Sioux Tribe of South Dakota; Lower Brule Sioux Tribe of the Lower Brule Reservation, South Dakota; Northern Cheyenne Tribe of the Northern Cheyenne Indian Reservation, Montana; Oglala Sioux Tribe, South Dakota (previously listed as the Oglala Sioux Tribe of the Pine Ridge Reservation, South Dakota); Rosebud Sioux Tribe of the Rosebud Indian Reservation, South Dakota; Santee Sioux Nation, Nebraska; Standing Rock Sioux Tribe of North & South Dakota Three Affiliated Tribes of Fort Berthold Reservation, North Dakota; and the Yankton Sioux Tribe of South Dakota (hereafter listed as “The Tribes”).

History and Description of the Remains

In 1938, human remains representing, at minimum, three individuals were removed from Okiedan Butte in Ransom County, ND. The excavation was led by William Duncan Strong and jointly sponsored by Columbia University and the State Historical Society of North Dakota. Strong brought the human remains to the American Museum of Natural History (AMNH) where they were placed on “permanent loan.” In January 2002, a detailed assessment of the human remains was made by researchers at Columbia University and in August 2011, the AMNH transferred the human remains to the Department of Anthropology at Columbia University. Three fragmentary skulls, representing two adults and one child were identified. These individuals have been identified as Native American based on Strong's documentation and non-invasive assessment of cranial features. No known individuals were identified. No associated funerary objects are present.

Strong's field notes (National Anthropological Archives, Strong Papers, Box 21, Field Work 1938) refer to excavations at Mound #1 at Okiedan Buttes (sic) on July 28, 1938. Strong's notes are interspersed with that of another writer with the signature of C. Smith. Carlyle S. Smith was a graduate student at Columbia and a member of this team, however it is Smith's name that appears on field tags associated with these remains. The field designations, A, B, and C, correspond with the numbers in Strong's 1938 field notes referring to burials from “Okiedan Butte, Mound #1.” According to Dr. Douglas Owsley (NMNH), who examined these remains in 2003, bone preservation suggests a Late Woodland date or later, possibly A.D. 900-1400.

Determinations Made by Columbia University, Department of Anthropology

Officials of Columbia University, Department of Anthropology, have determined that:

• Pursuant to 25 U.S.C. 3001(9), the human remains described in this notice are Native American based on Strong's documentation and non-invasive assessment of cranial features.

• Pursuant to 25 U.S.C. 3001(9), the human remains described in this notice represent the physical remains of three individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of The Tribes.

• Treaties, Acts of Congress, or Executive Orders, indicate that the land from which the Native American human remains were removed is the aboriginal land of The Tribes.

• Pursuant to 43 CFR 10.11(c)(1), the disposition of the human remains may be to The Tribes.

Additional Requestors and Disposition

Representatives of any Indian tribe or Native Hawaiian organization not identified in this notice that wish to request transfer of control of these human remains should submit a written request with information in support of the request to Dr. Nan Rothschild, Department of Anthropology, Columbia University, 1200 Amsterdam Ave., New York, NY 10027, telephone (212) 854-4977, email roth@columbia.edu, by April 15, 2015. After that date, if no additional requestors have come forward, transfer of control of the human remains to The Tribes may proceed.

The Columbia University, Department of Anthropology, is responsible for The Tribes that this notice has been published.

Dated: February 23, 2015.
Melanie O'Brien,
Acting Manager, National NAGPRA Program.

[FR Doc. 2015-05981 Filed 3-13-15; 8:45 am]

BILLING CODE 4310-50-P